DEPARTMENT OF THE INTERIOR

Bureau of Land Management

[CA-680-02-1610-JP-064B]

Temporary Motorized Vehicle use Closure and Establish an Interim Motorized Vehicle Access Network on Selected Federal Lands in Western San Bernardino County, California

AGENCY: Bureau of Land Management, Interior.

ACTION: Temporary closure to motorized vehicle use on selected federal lands in San Bernardino County, California and establish an interim motorized vehicle access network. The area encompasses 222,750 acres in the Fremont subregion.

DATES: The temporary closure was approved November 15, 2001, and is in effect.

ADDRESSES: Bureau of Land Management, Barstow Field Office, 2601 Barstow Rd, Barstow, CA 92311.

FOR FURTHER INFORMATION CONTACT: Tim Read, BLM, Barstow Field Office 2601 Barstow Rd, Barstow, CA 92311 , telephone (760) 252-6000. The closure is posted in the Barstow Field Office and at places near and/or within the area to which the closure applies. Maps identifying the affected areas are available at the Barstow Field Office as well as on the Bureau of Land Management (BLM) California website at www.ca.blm.gov.

SUPPLEMENTARY INFORMATION: This temporary closure is implemented pursuant to Title 43 Code of Federal Regulations (CFR) 8341.2(a). The closure was approved November 15, 2001 and will remain in effect until a Record of Decision is signed on the West Mojave Coordinated Management Plan (WEMO Plan), which is expected to be signed June 2003.

Exceptions to this closure include government vehicles conducting official business which shall be allowed inside the closed areas as authorized and an interim route network signed as open routes on the ground and identified on the map. Official business may include public service emergencies, resource monitoring/research, and management activities, and other actions authorized by BLM's Barstow Field Office.

Dated: November 15, 2001.
Tim Read,
Field Manager.

[FR Doc. 01-29346 Filed 11-21-01; 8:45 am]

BILLING CODE 4310-40-P